DEPARTMENT OF COMMERCE

Economic Development Administration

[Docket No.: 1008270400-0400-01]

Space Coast Regional Innovation Cluster Competition

AGENCY: Economic Development Administration (EDA), Department of Commerce.

ACTION: Notice and request for applications.

SUMMARY: This notice announces the upcoming availability of funding for the Space Coast Regional Innovation Cluster (RIC) Competition under EDA's Economic Adjustment Assistance (EAA) Program. EDA solicits competitive applications to catalyze the advancement of Central Florida's key regional industry clusters. Additional information can be found at the Space Coast RIC Web site at http://www.eda.gov/SpaceCoastRIC. Applicants are advised to read carefully the Federal funding opportunity (FFO) announcement for the Space Coast RIC Competition. For a copy of the FFO, please see the Web sites listed below under “Electronic Access.”

DATES: To be considered timely, a completed application must be transmitted to and time-stamped at http://www.grants.gov no later than 5 p.m. Eastern Time on October 15, 2010. Any application time-stamped after 5 p.m. Eastern Time on October 15, 2010, will be considered non-responsive and will not be considered for funding. EDA will conduct an informational teleconference for prospective Space Coast RIC Competition applicants at 2 p.m. Eastern Time on September 8, 2010. For more information on the teleconference, please see the section titled “Informational Teleconference” below and section IV.F. of the FFO. Winning applicants should expect to receive awards in January 2011, subject to the availability of appropriations.

Application Submission Requirements: Applications must be submitted electronically in accordance with the instructions provided at http://www.grants.gov. EDA will not accept facsimile transmissions of applications and will accept e-mail transmission only in case of http://www.grants.gov systems issues as provided in section IV.E. of the FFO. Applicants may access the application package by following the instructions provided at http://www.grants.gov. The preferred electronic file format for attachments is portable document format (PDF); however, EDA will accept electronic files in Microsoft Word, WordPerfect, or Microsoft Excel.

Applicants are strongly encouraged to start early and not to wait until the approaching deadline before logging on and reviewing the application instructions at http://www.grants.gov. Applicants must register (which can take between three to five business days or as long as four weeks if all steps are not completed correctly), designate one or more Authorized Organizational Representatives (AOR) and ensure that an AOR submits the application, and verify that the submission was successful. Applicants should save and print written proof of an electronic submission made at http://www.grants.gov. If problems occur, the applicant is advised to (a) print any error message received, and (b) call the http://www.grants.gov. Contact Center at 1-800-518-4726 for assistance. The following link lists useful resources: http://www.grants.gov/help/help.jsp. Also, the following link lists frequently asked questions (FAQs): http://www.grants.gov/applicants/resources.jsp#faqs. If you do not find an answer to your question under the “Applicant FAQs,” try consulting the “Applicant User Guide” or contacting http://www.grants.gov via e-mail at support@grants.gov or telephone at 1-800-518-4726. In addition, please read carefully section IV.E. of the FFO to ensure your application is received by EDA and for the alternative submission method in case of systems issues at http://www.grants.gov.

FOR FURTHER INFORMATION CONTACT: For additional information or for a paper copy of the FFO, contact Philip Trader by telephone at 404-730-3017 or via e-mail at ptrader@eda.doc.gov.

SUPPLEMENTARY INFORMATION: Program Information: The Space Coast RIC Competition is a fast-track competitive grant process led by EDA, an agency within the U.S. Department of Commerce (DOC). The goal of this competition is to identify and fund promising job creation and economic development initiatives aligned with regional cluster and competitiveness analyses to sustain the coordinated economic development and diversification of Florida's Space Coast region. Only applications that EDA determines have successfully demonstrated this nexus will be considered responsive under the Space Coast RIC Competition.

EDA will coordinate this competition with members of the Presidential Taskforce on Space Industry Workforce and Economic Development, including the National Aeronautics and Space Administration (NASA), the Small Business Administration (SBA), the Department of Labor (DOL), and other agencies, to leverage federal resources and expertise for the benefit of Space Coast RIC Competition winners.

The culmination of the Space Shuttle Program poses significant economic challenges for Florida's Space Coast region. However, the region is connected to a tremendous range of economic assets that can serve as the foundation for future business activity. The region's local economic development organizations, in coordination with Federal, State, and local officials; Space Shuttle Program contractors; and other key stakeholders, have worked collaboratively to develop strategies for retaining aerospace workers in the region. Investing in RICs is anticipated to promote a cohesive and reinforcing network of economic activity. A strategic plan developed by Enterprise Florida, a public-private partnership charged with promoting State-wide economic development, identified eight significant economic clusters, five of which this competition focuses on as having the potential to sustain and spur economic growth in the Space Coast region:

(1) Aviation and Aerospace,

(2) Cleantech,

(3) Homeland Security/Defense,

(4) Information Technology, and

(5) Life Sciences.

Please see Enterprise Florida's full strategy entitled “Roadmap to Florida's Future,” which is available at http://www.eflorida.com.

These promising RICs offer tremendous opportunities to not only retain the Space Coast region's current workforce, but to accelerate the diversification of the regional economy. These industry clusters capitalize on the region's powerful and unique economic assets. By encouraging applicants to think of creative and workable ways to improve the region's economy, the Space Coast RIC Competition is designed to catalyze the advancement of Central Florida's key RICs to drive economic growth and job creation. This initiative will build on and complement existing efforts and ensure collaboration with public, private, and nonprofit partners in the region. Applicants are expected to leverage regional strengths, capabilities, and competitive advantages.

EDA's EAA Program, under which EDA expects to fund the Space Coast RIC Competition, can provide a wide range of technical, planning, and innovation infrastructure assistance, including technology transfer and commercialization. The EAA Program is designed to respond adaptively to pressing economic recovery issues and is well suited to help address the challenges faced by Florida's Space Coast region. Assistance can support the development of a strategy to alleviate economic dislocation or support strategy implementation projects, such as innovation infrastructure, entrepreneurial development support investments, and revolving loan funds (RLFs). EDA encourages the submission of applications focused on the development and implementation of long-term, regionally based, collaborative economic development strategies. In addition, EDA will regard applications for innovation infrastructure that are substantively supported by such a strategy as more competitive and worthy of funding than applications for infrastructure that are not so supported.

EDA strongly encourages applicants to review the full report of the Presidential Task Force on Space Industry Workforce and Economic Development, which may be accessed, along with other materials, at http://www.nasa.gov/offices/spacecoasttaskforce/home/index.html. More information on EDA and its programs may be found at http://www.eda.dov and EDA's Space Coast RIC webpage at http://www.eda.gov/SpaceCoastRIC.

Electronic Access: The FFO for the Space Coast RIC Competition is available at http://www.grants.gov and at http://www.eda.gov. EDA has created a Web page with additional information on the competition at http://www.eda.gov/SpaceCoastRIC.

Funding Availability: For FY 2011, EDA anticipates allocating $35,000,000 for the Space Coast RIC Competition. Funding for this competition has been included in the Administration's FY 2011 budget request and is contingent upon Congressional approval. Awards under this competition will be made pursuant to grant or cooperative agreements, and award funds are anticipated to be available until expended. EDA expects to award applications that include significant public-private capital investment, and individual awards may be as large as $10,000,000. Please note that if Congress fails to provide the appropriation, EDA will cancel this competition and make no awards.

Project periods are dependent on the nature of the proposed project and the scope of work. For example, the project period for a construction project may last for three or more years until construction is completed satisfactorily, while a strategic planning or technology transfer and commercialization project may allow for one to three years for completion of the scope of work. EDA expects that all projects will proceed expeditiously.

The project period and funding amounts for this competition are subject to the availability of funds at the time of award, as well as to DOC and EDA priorities at the time of award. The DOC and EDA will not be held responsible for application preparation costs. Publication of this notice does not obligate DOC or EDA to award any specific grant or cooperative agreement or to obligate all or any part of available funds. Although EDA expects to make grant awards, EDA may choose to make awards via cooperative agreements based on the anticipated amount of interaction between EDA and the recipient during the project period.

Statutory Authority: The authority for the EAA Program is section 209 of PWEDA (42 U.S.C. 3149). EDA's regulations, which will govern an award made under the Space Coast RIC Competition, are codified at 13 CFR chapter III. The regulations and PWEDA are accessible at http://www.eda.gov/InvestmentsGrants/Lawsreg.xml.

Catalog of Federal Domestic Assistance (CFDA) Number: 11.307, Economic Adjustment Assistance.

Applicant Eligibility: Pursuant to PWEDA, eligible applicants for and recipients of EDA investment assistance include a District Organization; an Indian Tribe or a consortium of Indian Tribes; a State; a city or other political subdivision of a State, including a special purpose unit of a State or local government engaged in economic or infrastructure development activities, or a consortium of political subdivisions; an institution of higher education or a consortium of institutions of higher education; and a public or private non-profit organization or association.

Cost Sharing Requirement: In general, projects may be eligible for up to an 80 percent Federal share, but as noted below, the amount of local match committed will be a competitive factor. See section 204(a) of PWEDA (42 U.S.C. 3144) and 13 CFR 301.4(b)(1). In the case of a(n) (i) Indian Tribe, (ii) State (or political subdivision of a State) that the Assistant Secretary determines has exhausted its effective taxing and borrowing capacity, or (iii) non-profit organization that the Assistant Secretary determines has exhausted its effective borrowing capacity, the Assistant Secretary has the discretion to establish a maximum EDA investment rate of up to 100 percent of the total project cost. See sections 204(c)(1) and (2) of PWEDA (42 U.S.C. 3144) and 13 CFR 301.4(b)(5).

In the application review process, EDA will consider the nature of the contribution (cash or in-kind) and the amount of the matching share funds. EDA will give preference to applications that include cash contributions (over in-kind contributions) as the matching share. While cash contributions are preferred, in-kind contributions, consisting of contributions of space, equipment, or services, or forgiveness or assumptions of debt, may provide the required non-federal share of the total project cost. See section 204(b) of PWEDA (42 U.S.C. 3144). EDA will fairly evaluate all in-kind contributions, which must be eligible project costs and meet applicable federal cost principles and uniform administrative requirements. Funds from other federal financial assistance awards are considered matching share funds only if authorized by statute, which may be determined by EDA's reasonable interpretation of the statute. See 13 CFR 300.3. In addition, the applicant must show that the matching share is committed to the project for the entire project period, will be available as needed, and is not conditioned or encumbered in any way that precludes its use consistent with the requirements of EDA investment assistance. See 13 CFR 301.5.

Nonrelocation: Applicants are advised that should an application be selected for award, the recipient will be required to adhere to a special award condition relating to EDA's nonrelocation policy as follows:

In signing this award of financial assistance, Recipient(s) attests that EDA funding is not intended by the Recipient to assist its efforts to induce the relocation of existing jobs that are located outside of its jurisdiction to within its jurisdiction in competition with other jurisdictions for those same jobs. In the event that EDA determines that its assistance was used for those purposes, EDA retains the right to pursue appropriate enforcement action in accord with the Standard Terms and Conditions of the Award, including suspension of disbursements and termination of the award for convenience or cause.

For purposes of ensuring that EDA assistance will not be used to merely transfer jobs from one location in the United States to another, each applicant must inform EDA of all employers that constitute primary beneficiaries of the project assisted by EDA. EDA will consider an employer to be a “primary beneficiary” if the applicant estimates that such employer will create or save 100 or more permanent jobs as a result of the investment assistance, provided that such employer also is specifically named in the application as benefiting from the project, or is or will be located in an EDA-assisted building, port, facility, or industrial, commercial, or business park constructed or improved in whole or in part with Investment Assistance prior to EDA's final disbursement of funds. In smaller communities, EDA may extend this policy to the relocation of 50 or more jobs.

Application Requirements: Please read carefully section IV. of the FFO to help ensure your application is complete and timely received by EDA. It is the sole responsibility of the applicant to ensure that the appropriate application package is complete and transmitted to and time-stamped at http://www.grants.gov no later than 5 p.m. Eastern Time on October 15, 2010.

Construction Assistance: An applicant seeking assistance for a project with construction components is required to complete and submit the following:

• Form ED-900 (Application for Investment Assistance). One form per project is required. Please read the paragraphs below under “Special Instructions for Completing Form ED-900” carefully for important information on submitting a complete Form ED-900.

• One Form SF-424 (Application for Federal Assistance) from each co-applicant, as applicable.

• Form SF-424C (Budget Information—Construction Programs). One form per project is required.

• One Form SF-424D (Assurances—Construction Programs) from each co-applicant, as applicable.

• One EDA Construction Investments Additional Assurances form (Exhibit D of Form ED-900) from each co-applicant, as applicable.

• One Form CD-511 (Certification Regarding Lobbying) from each co-applicant, as applicable.

Non-Construction Assistance: An applicant seeking assistance for a project without construction components is required to complete and submit the following:

• Form ED-900 (Application for Investment Assistance). One form per project is required. Please read the paragraphs below under “Special Instructions for Completing Form ED-900” carefully for important information on submitting a complete Form ED-900.

• One Form SF-424 (Application for Federal Assistance) from each co-applicant, as applicable.

• Form SF-424A (Budget Information—Non-Construction Programs). One form per project is required.

• One Form SF-424B (Assurances—Non-Construction Programs) from each co-applicant, as applicable.

• One EDA Capacity Building Investments Additional Assurances form (Exhibit D of ED 900) from each co-applicant; as applicable.

• One Form CD-511 (Certification Regarding Lobbying) from each co-applicant, as applicable.

In addition, applicants may be required to provide certain lobbying information using Form SF-LLL (Disclosure of Lobbying Activities). Form ED-900 provides detailed guidance to help the applicant assess whether Form SF-LLL is required and how to access it. Please note that, if applicable, one Form SF-LLL must be submitted for each co-applicant that has used or plans to use non-Federal funds for lobbying in connection with this competition. In addition, all non-profit applicants and applicants that are first-time recipients of EDA and/or DOC funding are required to provide required individual background screening forms (Form CD-346) for a complete application, but please note that EDA may require other applicants to submit Form CD-346 as well to comply with DOC requirements. EDA will inform applicants if this is required.

Special Instructions for Completing Form ED-900: Because of the unique nature of this competition, applicants are advised that modifications to the general application instructions for Form ED-900 are required for a complete application.

• The “Instructions for Electronic and Hardcopy Formats” in Form ED-900 inform applicants to complete the form in Adobe Acrobat Reader 8.1.1. or higher. Please note that the technical requirements of http://www.grants.gov have changed, and applicants should be careful to ensure they have downloaded and installed Adobe Acrobat Reader 8.1.3. (instead of 8.1.1.) to complete the application package. Adobe Acrobat Reader 8.1.3. may be downloaded at http://www.grants.gov/help/download_software.jsp.

In addition, there are a number of overall instructions and admonitions given in Form ED-900 that Space Coast RIC Competition applicants should disregard. Please read the instructions listed below:

• Applicants should disregard the reference to hardcopy submission in Form ED-900. As noted in this notice, the only method for application submission is through http://www.grants.gov.

• Space Coast RIC Competition applicants also should disregard the statement in the “Note on EDA's Application Process” that advises applicants that EDA will request the listed materials only after a project has been determined to merit “further consideration.”

For the Space Coast RIC Competition, all documentation that Form ED-900 advises may be submitted at a later date must be submitted by the competition deadline stated above under DATES. These items may be uploaded as attachments to the application package. The following list further details the required submissions for each type of EDA project.

For all types of projects, the following are required:

• Projects must be consistent with the region's Comprehensive Economic Development Strategy (CEDS) or alternate EDA-approved strategic planning document. See section A.3. of Form ED-900, which requires applicants to identify the relevant plan. If EDA does not already have the applicable plan, the applicant may be required to provide it. If you have any questions about this requirement, please contact the agency contact listed above under FOR FURTHER INFORMATION CONTACT and in section VIII. of the FFO.

• Letters of commitment to document non-EDA funding (see section A.9. of Form ED-900).

• Form CD-346 (Applicant for Funding Assistance) for each key individual of the applicant and co-applicant organization(s), if the organization is a non-profit or is a first-time recipient of EDA or DOC funding.

For construction projects only, the following are required:

• Maps of the project site (U.S. Geological Survey (USGS) map(s) and Federal Emergency Management Agency (FEMA) floodplain map (if applicable)) with project components and beneficiaries noted (see section A.2. of Form ED-900).

• Letters of commitment and assurances of compliance (Exhibit A to Form ED-900) from private beneficiaries of the proposed project (see section B.5. of Form ED-900).

• Comments from the metropolitan area review/clearinghouse agency (see section M.1. of Form ED-900).

• A legal opinion and other documentation, as necessary, verifying the applicant's answers to questions regarding project ownership, operation, maintenance, and management (see section M.6. of Form ED-900).

• A legal opinion regarding any use of eminent domain. Applicants should contact the agency contact listed above under FOR FURTHER INFORMATION CONTACT and in section VIII. of the FFO for guidance on this requirement.

• Any lease(s) encumbering the project property, if applicable. The applicant may provide lease copies.

• A preliminary engineering report (all required elements are listed in section M.3. of Form ED-900; special formatting is not required).

• An environmental narrative that will enable EDA to comply with its National Environmental Policy Act (NEPA) responsibilities. An environmental narrative outline that details requires components may be accessed at http://www.eda.gov/PDF/single_app_narrrative_111008.pdf. Applicants should include Appendix A to the environmental narrative signed by each co-applicant, as applicable.

• Project sign-off/approval from U.S. Army Corps of Engineers and the U.S. Fish and Wildlife Service, if applicable. Note the environmental narrative instructions (provided in the link above) state that approval comments from regulatory agencies should be obtained and submitted as an attachment to the environmental narrative. If an applicant has initiated environmental review processes, but is unable to receive final approval by the competition deadline, EDA will accept a letter from the applicable regulatory agency stating that the project has conditional approval. In such circumstances, EDA will include any conditions as part of the award. If the application does not include these sign-off/approvals and EDA subsequently determines that these are required, the applicant will be required to obtain and submit them after the competition deadline.

• Copies of any other environmental studies, if available.

• Comments from the State Clearinghouse in compliance with Executive Order 12372, “Intergovernmental Review of Federal Programs.” Detailed information on the State Clearinghouse process can be accessed at http://www.dep.state.fl.us/secretary/oip/state_clearinghouse/manual2.htm.

• Documented approval from the State Historic Preservation Officer (SHPO), as applicable. Note that if the applicant has initiated the consultation process, but the SHPO is unable to give final approval by the competition deadline, EDA will accept a letter from the SHPO stating that the project has conditional approval or that the applicant has satisfactorily initiated the consultation process required under section 106 of the National Historic Preservation Act. EDA, after compliance with requirements for consultation with federally recognized Indian Tribes, may require applicants to participate in Tribal consultation, as necessary. EDA will include any conditions from the conditional approval or consultation process as part of the award.

For Revolving Loan Fund projects only, the following is required:

• RLF Plan for the RLF's financial management. See EDA's regulation at 13 CFR 307.9 for more information on requirements for RLF Plans.

For non-profit applicants only, the following are required:

• Certificate of good standing from the State in which the organization is incorporated.

• A copy of the organization's current Articles of Incorporation and By-Laws.

• Resolution (or letter) from a general purpose subdivision of State government acknowledging that the organization is acting in cooperation with officials of that political subdivision.

• Form CD-346 (Applicant for Funding Assistance) for each key individual of the non-profit, which includes the executive director, project manager, chief financial manager, and any other person or entity who has authority to speak for and/or commit the organization in the management of an award and/or expend funds.

Informational Teleconference: EDA will hold an informational teleconference for the Space Coast RIC Competition on September 8, 2010, at 2 p.m. Eastern Time. This teleconference will be used to provide general competition and application submission information and answer participant questions.

To ensure that enough incoming lines are available for each caller, interested parties planning to participate on the teleconference must register no later than 5 p.m. Eastern Time on September 7, 2010. To register, please send an e-mail to SpaceCoast@eda.doc.gov with “Space Coast RIC Competition Teleconference Registration” in the subject line, along with the names and addresses of the potential applicant(s). In addition, provide the name and title of the telephone participant along with the participant's telephone number and e-mail address. The telephone number and pass code for the teleconference will be provided upon receipt of registration.

Please be advised that the informational teleconference will be audio-taped and the actual recording (or a transcript) is to be made available for the benefit of prospective applicants unable to participate. Prospective applicants who choose to participate in the teleconference are deemed to consent to the taping. A recording of the teleconference may be accessed by calling 1-866-462-8979 and entering the pass code 0908. This recording will be available between 6 p.m. Eastern Time on September 8, 2010, and 5 p.m. Eastern Time on October 16, 2010, the day after the competition deadline.

Intergovernmental Review: Applications for assistance under EDA's programs are subject to the State review requirements imposed by Executive Order 12372, “Intergovernmental Review of Federal Programs.”

Evaluation and Selection Procedures:

1. Responsiveness Review.

Staff in EDA's Atlanta regional office, which serves the State of Florida, will review all applications for responsiveness. Applications that are ineligible for EDA funding or that do not contain all forms and required documentation listed in section IV. of the FFO may be deemed non-responsive and excluded from further consideration. EDA expects all applicants to complete and include all required forms and documentation. However, EDA reserves the right to forward timely and otherwise complete applications that may contain a non-substantive technical deficiency to the Interagency Review Panel for further consideration. In addition, staff in the Atlanta Regional Office will conduct a statutory and regulatory compliance review for each responsive application and an initial merit review under the evaluation criteria set out below and in section V.A. of the FFO, both of which will be provided to the Interagency Review Panel.

2. Interagency Federal Investment Review Panel.

Upon completion of the responsiveness review, a Federal interagency investment review panel (Interagency Review Panel) that will be composed of senior officials from EDA and other federal agencies, which shall include NASA, SBA, and DOL, will review and evaluate all responsive applications according to the criteria set out below. The Interagency Review Panel will either forward its ranked list and any comments to the Selecting Official (defined below), or identify any deficiencies in the review process and convene a new EDA responsiveness review panel in the Atlanta Regional Office to restart the selection process.

3. Selecting Official and Selecting Factors.

Under this notice, the Regional Director in the Atlanta Regional Office is the Selecting Official. The Selecting Official may follow the recommendations of the Interagency Review Panel; however, the Selecting Official retains the discretion not to make a selection, or to select an application out of order for any of the following reasons:

a. Availability of program funding,

b. A determination that the application better meets the overall objectives of sections 2 and 209 of PWEDA (42 U.S.C. 3121 and 3149),

c. A determination that the application is more responsive to programmatic and/or policy considerations,

d. The applicant's non-compliance with statutory and regulatory requirements, including PWEDA, EDA's regulations set out at 13 CFR chapter III, and DOC regulations set out at 15 CFR parts 14 or 24, as applicable, or

e. The applicant's performance under previous federal financial assistance awards.

If the Selecting Official makes a selection out of order, he will document the rationale for the decision in writing. The Selecting Official will submit his decision to EDA headquarters for review before making the final selection.

Evaluation Criteria: The Interagency Review Panel will evaluate applications competitively based on the following criteria, which will be weighted equally:

1. Collaborative Regional Innovation. Initiatives that support the development and growth of Central Florida's Aviation and Aerospace, Cleantech, Homeland Security/Defense, Information Technology, and Life Sciences industry clusters. Initiatives must engage stakeholders; facilitate collaboration among urban, suburban and rural (including Tribal) areas; provide stability for economic development through long-term intergovernmental and public/private collaboration; and support the growth of existing and emerging industries.

2. Public/Private Partnerships. Investments that use both public and private sector resources and leverage complementary investments by other government/public entities and/or non-profits.

3. Global Competitiveness. Investments that support high-growth businesses and innovation-based entrepreneurs to expand and compete in global markets.

4. Environmentally Sustainable Development. Investments that encompass best practices in “environmentally sustainable development,” broadly defined, to include projects that enhance environmental quality and develop and implement green products, processes, and buildings as part of the green economy.

5. Economically Distressed and Underserved Communities. Investments that strengthen diverse communities that have suffered disproportionate economic and job losses and/or are rebuilding to become more competitive in the global economy.

6. Total Job Creation. Investments that demonstrate a clear, comprehensive, and effective strategy for the recruitment, training, placement, and retention of a skilled workforce.

7. Implementation Schedule. Investments with demonstrated capacity to be implemented quickly and effectively, accelerating positive economic impacts.

8. Feasibility of Budget and Value to the Federal Government. Investments that demonstrate a high degree of local commitment through the amount and type of match committed. EDA also will evaluate the expected benefits of the proposed scope of work in light of the goals of this competition and the cost to the Federal Government.

The Department of Commerce Pre-Award Notification Requirements for Grants and Cooperative Agreements: The administrative and national policy requirements for all Department of Commerce awards, contained in the Department of Commerce Pre-Award Notification Requirements for Grants and Cooperative Agreements, published in the Federal Register on February 11, 2008 (73 FR 7696), are applicable to this competition.

Paperwork Reduction Act: This document contains collection-of-information requirements subject to the Paperwork Reduction Act (PRA). The use of Form ED-900 (Application for Investment Assistance) has been approved by the Office of Management and Budget (OMB) under the Control Number 0610-0094. The use of Forms SF-424 (Application for Financial Assistance), SF-424A (Budget Information—Non-Construction Programs), SF-424B (Assurances—Non-Construction Programs), SF-424C (Budget Information—Construction Programs), SF-424D (Assurances—Construction Programs), and Form SF-LLL (Disclosure of Lobbying Activities) has been approved under OMB Control Numbers 4040-0004, 0348-0044, 4040-0007, 4040-0008, 4040-0009, and 0348-0046 respectively. The Form CD-346 (Applicant for Funding Assistance) is approved under OMB Control Number 0605-0001. Notwithstanding any other provision of law, no person is required to respond to, nor shall any person be subject to a penalty for failure to comply with, a collection of information subject to the requirements of the PRA unless that collection of information displays a currently valid OMB Control Number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: August 27, 2010.
Sean Cartwright,
Chief of Staff.

[FR Doc. 2010-21905 Filed 8-31-10; 8:45 am]

BILLING CODE 3510-24-P